ENVIRONMENTAL PROTECTION AGENCY

[FRL-6964-3]

Agency Information Collection Activities: Continuing Collection; Comment Request

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): NSPS for Asphalt Processing and Asphalt Roofing Manufacturers; EPA ICR Number 0661.06 and OMB Control Number 2060-0002, expiration date, August 30, 2001. Before submitting the ICR to OMB for review and approval, EPA is soliciting comments on specific aspects of the proposed information collection as described below.

DATES: Comments must be submitted on or before June 5, 2001.

ADDRESSES: United States Environmental Protection Agency; Compliance Assistance and Sector Programs Division, 2224A; 1200 Pennsylvania Ave., NW.; Washington, DC, 20460. A hard copy of an ICR may be obtained without charge by calling the identified information contact individual for each ICR in Section B of the Supplementary Information.

FOR FURTHER INFORMATION CONTACT: Carolyn Young, (202) 564-7062, fax (202) 564-0009 or down load off the internet at http://www.epa.gov/icr/icr.htm and refer to ICR Number 0661.05 and OMB Control Number 2060-0002-NSPS.

SUPPLEMENTARY INFORMATION:

Affected Entities: Entities potentially affected by this action are those which are asphalt processing and roofing manufacturers (SIC Codes 2911, 2951, and 2952) which commenced construction, modification, or reconstruction after November 18, 1980, or May 26, 1981 as appropriate.

Title: NSPS Subpart UU: Asphalt processing and asphalt roofing manufacturers; OMB Control Number 2060-0002, expires August 31, 2001.

Abstract: This ICR contains recordkeeping and reporting requirements that are mandatory for compliance with 40 CFR part 60, New Source Performance Standards (NSPS), Subpart UU. The respondents of the recordkeeping and reporting requirements are asphalt processing and roofing manufacturers (SIC Codes 2911, 2951, and 2952) which commenced construction, modification, or reconstruction after November 18, 1980, or May 26, 1981 as appropriate.

The control of emissions of particulate matter from asphalt processing and asphalt roof manufacturing requires not only the installation of properly designed equipment, but also the operation and maintenance of that equipment. Particulate matter emissions from asphalt processing and asphalt roof manufacturing are the result of materials handling, fuel combusion, and storage. These standards rely on the reduction of particulate matter emissions by pollution control devices such as electrostatic precipitators, high velocity air filters, or afterburners.

In order to ensure compliance with these standards, adequate recordkeeping is necessary. In the absence of such information enforcement personnel would be unable to determine whether the standards are being met on a continuous basis, as required by the Clean Air Act.

The standards require initial notification reports with respect to construction, modification, reconstruction, startups, shutdowns, and malfunctions. The standards also require reports on initial performance tests.

Under the standard, the data collected by the affected industry is retained at the facility for a minimum of two (2) years and made available for inspection by the Administrator of EPA.

An agency may not conduct or sponsor, and a person is not required to respond to, a collection of information unless it displays a currently valid OMB control number. The OMB control numbers for EPA's regulations are listed in 40 CFR part 9 and 48 CFR Chapter 15. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection is estimated to average 24 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 86.

Estimated Number of Respondents: 86.

Frequency of Response: Initial start-up.

Estimated Total Annual Hour Burden: 15,629 hours.

Estimated Total Annualized Cost Burden: $3,210,000.

Dated: March 22, 2001.
James Edward,
Director, Compliance Assistance Sector Programs Division,, Office of Compliance.

[FR Doc. 01-8497 Filed 4-5-01; 8:45 am]

BILLING CODE 6560-50-U